DEPARTMENT OF STATE

[Public Notice 3361]

Determinations on Export-Import Bank Financing in Support of Sale of Helicopters to Colombia

Pursuant to section 2(b)(6) of the Export-Import Bank Act of 1945, as amended, and Executive Order 11958 of January 18, 1977, as amended by Executive Order 12680 of July 5, 1989, I hereby determine that:

(1) The defense articles and services for which the Government of Colombia has requested Export-Import Bank (Ex-Im) financial guarantees, fourteen UH-60 (Blackhawk) helicopters, are to be used primarily for anti-narcotics purposes;

(2) The sale of such defense articles and services would be in the national interest of the United States;

(3) The Government of Colombia has complied with all U.S.-imposed end-use restrictions on the use of defense articles and services previously financed under the Act; and

(4) The Government of Colombia has not used defense articles or services previously provided under the Act to engage in a consistent pattern of gross violations of internationally recognized human rights.

The determinations shall be reported to Congress and shall be published in the Federal Register.

Dated: May 22, 2000.
Madeleine Albright,
Secretary of State.

[FR Doc. 00-17475 Filed 7-10-00; 8:45 am]

BILLING CODE 4710-07-U